DEPARTMENT OF ENERGY

Federal Energy Regulatory Commission

[Docket No. IC05-549-000, FERC-549]

Commission Information Collection Activities, Proposed Collection; Comment Request; Extension

February 23, 2005.

AGENCY: Federal Energy Regulatory Commission.

ACTION: Notice.

SUMMARY: In compliance with the requirements of section 3506(c)(2)(a) of the Paperwork Reduction Act of 1995 (Pub. L. 104-13), the Federal Energy Regulatory Commission (Commission) is soliciting public comment on the specific aspects of the information collection described below.

DATES: Comments on the collection of information are due by April 25, 2005.

ADDRESSES: Copies of sample filings of the proposed collection of information can be obtained from Michael Miller, Office of the Executive Director, ED-33, 888 First Street NE., Washington, DC 20426. Comments may be filed either in paper format or electronically. Those parties filing electronically do not need to make a paper filing. For paper filings, the original and 14 copies of such comments should be submitted to the Office of the Secretary, Federal Energy Regulatory Commission, 888 First Street, NE. Washington, DC 20426 and refer to Docket No. IC05-549-000.

Documents filed electronically via the Internet must be prepared in WordPerfect, MS Word, Portable Document Format, or ASCII format. To file the document, access the Commission's Web site at http://www.ferc.gov and click on “Make an E-filing” and then follow the instructions for each screen. First time users will have to establish a user name and password. The Commission will send an automatic acknowledgement to the sender's E-mail address upon receipt of comments.

All comments may be viewed, printed or downloaded remotely via the Internet through FERC's homepage using the eLibrary link. For user assistance, contact FERCOnlineSupport@ferc.gov or toll free at (866) 208-3676 or for TTY, contact (202) 502-8659.

FOR FURTHER INFORMATION CONTACT: Michael Miller may be reached by telephone at (202) 502-8415, by fax at (202) 273-0873 and by E-mail at michael.miller@ferc.gov.

SUPPLEMENTARY INFORMATION: Abstract: The information collected under the requirements of FERC-549, “Gas Pipeline Rates: NGPA Title III and NGA Blanket Certificate Transactions” (OMB No. 1902-0086) is used by the Commission to implement the statutory provisions of sections 311 and 312 of the Natural Gas Policy Act (NGPA) and section 7 of the Natural Gas Act (NGA). Under part 284 of the Commission's regulations non-interstate pipelines that perform transportation service under NGPA section 311 (intrastate pipelines) or blanket certificates issued under section 7 of the NGA are required to file an annual report of transportation transactions with the Commission. The report must provide the name of the shipper, the type of transaction, the quantity shipped and the revenues received.

In Order No. 636, the Commission required all pipelines that provide open-access transportation to offer their sales service on an unbundled basis. In administering the order, the Commission issued to pipelines holding a blanket transportation certificate under subpart G of part 284, or performing transportation under subpart B, a blanket certificate authorizing firm and interruptible sales for resale. In Order No. 547, as part of the industry restructuring begun by Order No. 636, the Commission issued blanket certificates to all persons who are not interstate pipelines, authorizing them to make jurisdictional gas sales for resale at negotiated rates with pre-granted abandonment. The Commission required that all firm and interruptible sales services be provided as unbundled services. In Order No. 664, the Commission amended its regulations regarding blanket certificates for unbundled gas sales services held by interstate natural gas pipelines and the blanket marketing certificates held by persons making sales for resale of gas at negotiated rates in interstate commerce to require that pipelines and all sellers for resale adhere to a code of conduct with respect to gas sales. The information collected in these reports is used by the Commission to monitor the jurisdictional transportation activities of intrastate and Hinshaw pipelines and the unbundled sales activities of interstate natural gas pipelines and to ensure the integrity of the gas sales market that remains within the Commission's jurisdiction. The Commission implements these mandatory filing requirements in the Code of Federal Regulations (CFR) under 18 CFR 284.126, 284.281-288, 284.401-403.

Action: The Commission is requesting a three-year extension of the current expiration date, with no changes to the existing collection of data.

Burden Statement: Public reporting burden for this collection is estimated as:

Number of respondents (1) | Annual responses per respondent (2) | Average burden hours per response (3) | Total annual burden hours (1)×(2)×(3)
77 | 1 | 8.1 | 624 (Annual Report)
222 | 1 | 1 | 222 (Code of Conduct)
222 | 1 | *2 | 444 (Code of Conduct)
Totals 222 | 1 | 11.2 | 1,290
* Recordkeeping.

Estimated cost burden to respondents is $544,628; (i.e., 1,290 hours divided by 2,080 hours per full time employee per year multiplied by $108,558 per year equals $67,328 rounded off + $477,300 for recording keeping).

The reporting burden includes the total time, effort, or financial resources expended to generate, maintain, retain, or disclose or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than anyone particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

Linda Mitry,
Deputy Secretary.

[FR Doc. E5-804 Filed 2-28-05; 8:45 am]

BILLING CODE 6717-01-P